ENVIRONMENTAL PROTECTION AGENCY

40 CFR Part 52

[KS 172-1172; FRL-7471-8]

Approval and Promulgation of Implementation Plans and Approval Under Sections 110 and 112(l); State of Kansas

AGENCY: Environmental Protection Agency (EPA).

ACTION: Proposed rule.

SUMMARY: EPA proposes to approve a State Implementation Plan (SIP) revision submitted by the state of Kansas. This revision applies to small businesses and creates a permit-by-rule that provides an alternative for certain small emission sources which otherwise would be required to apply for a full Class I or Class II operating permit. Small sources not operating at or above the major source thresholds are provided an option to operate under the conditions of this permit-by-rule in lieu of applying for the operating permit. Small sources which have emissions at 25 percent of the threshold levels are required to notify the state of their desire to operate under this regulation and to maintain the required records. Small sources which have emissions at 50 percent of the threshold levels are required to apply to the state, pay the appropriate fee and maintain the required records.

In the final rules section of the Federal Register, EPA is approving the state's SIP revision as a direct final rule without prior proposal because the Agency views this as a noncontroversial amendment and anticipates no relevant adverse comments to this action. A detailed rationale for the approval is set forth in the direct final rule. If no relevant adverse comments are received in response to this action, no further activity is contemplated in relation to this action. If EPA receives relevant adverse comments, the direct final rule will be withdrawn and all public comments received will be addressed in a subsequent final rule based on this proposed action. EPA will not institute a second comment period on this action. Any parties interested in commenting on this action should do so at this time. Please note that if EPA receives adverse comment on part of this rule and if that part can be severed from the remainder of the rule, EPA may adopt as final those parts of the rule that are not the subject of an adverse comment.

DATES: Comments on this proposed action must be received in writing by April 25, 2003.

ADDRESSES: Comments may be mailed to Heather Hamilton, Environmental Protection Agency, Air Planning and Development Branch, 901 North 5th Street, Kansas City, Kansas 66101.

FOR FURTHER INFORMATION CONTACT: Heather Hamilton at (913) 551-7039.

SUPPLEMENTARY INFORMATION: See the information provided in the direct final rule which is located in the rules section of the Federal Register.

Dated: March 13, 2003.
Nat Scurry,
Acting Regional Administrator, Region 7.

[FR Doc. 03-7052 Filed 3-25-03; 8:45 am]

BILLING CODE 6560-50-P